DEPARTMENT OF HEALTH AND HUMAN SERVICES

Centers for Disease Control and Prevention

[Program Announcement 00125]

Improve State and Local Health Information and Data Systems; Notice of Availability of Funds

A. Purpose

The Centers for Disease Control and Prevention (CDC) announces the availability of fiscal year (FY) 2000 funds for a cooperative agreement program to improve state and local health information and data systems to monitor and improve the health of U.S. populations and their communities.

The CDC is committed to achieving the health promotion and disease prevention objectives of “Healthy People 2010”, a national activity to reduce morbidity and mortality and improve the quality of life. This announcement is related to the priority area—Data and Information Systems, Chapter 23, “Public Health Infrastructure” of “Healthy People 2010”. Healthy People 2010 is available online at http://www.health.gov/healthypeople/publications/ or the ODPHP Communication Support Center, P.O. Box 37366, Washington, DC 20013-7366, (301) 468-5960.

The purpose is to develop programs which will enable state and local health departments to regularly and systematically collect, assemble, analyze, and make available information on the health of their populations and communities. Further background may be found in 1988 the Institute of Medicine published The Future of Public Health, which described the three core functions of public health: assessment, policy development, and assurance. For assessment, every public health agency should regularly and systematically collect, assemble, analyze, and make available information on the health of the community, including statistics on health status, community health needs, and epidemiologic and other studies of health problems.

B. Eligible Applicants

Funding will be provided only to national non-profit organizations, whose primary mission is to support State and local health agencies in the collection, management, analysis and dissemination of population-based, health-related data. These data include data on mortality, morbidity, natality, and healthcare (e.g., ambulatory or hospital-based), that are derived from surveys, vital registrations, disease notifications, disease registries, or health-related administrative systems (e.g., Medicaid claims and encounters).

Eligible national organizations must have affiliate offices and local, state, or regional membership constituencies in a minimum of 10 states and territories. Affiliate offices and local, state, or regional membership constituencies may not apply in lieu of, or on behalf of, their national office. Colleges and universities and for-profit organizations are not eligible to apply.

Note: Public Law 104-65 states that an organization described in section 501(c)(4) of the Internal Revenue Code of 1986 that engages in lobbying activities is not eligible to receive Federal funds constituting an award, grant, cooperative agreement, contract, loan, or any other form.

C. Availability of Funds

Approximately $200,000 is available in FY 2000 to fund approximately 2 awards. It is expected that the average award will be $100,000, ranging from $50,000 to $150,000. It is expected that the awards will begin on or about September 29, 2000 and will be made for a 12-month budget period within a project period of up to 3 years. The funding estimate may vary and is subject to change. Continuation awards within an approved project period will be made on the basis of satisfactory progress as evidenced by required reports and the availability of funds.

D. Program Requirements

In conducting activities to achieve the purpose of this program, the recipient will be responsible for the activities under “Recipient Activities,” and CDC will be responsible for the activities listed under “CDC Activities.”

1. Recipient Activities

a. Establish and maintain activities which support health information and data system for state and local health departments.

b. Assess state and local medicaid, education, and social service programs to achieve the purposes of this program.

c. Implement projects and activities with specific, measurable, and feasible goals, objectives, and timelines. Evaluate the effectiveness of the activities related to this program including possible indicators of success.

d. Participate in the Division of Public Health Surveillance and Informatics (DPHSI) annual Assessment State Meeting each budget year of the project for the purpose of sharing best practices learned from the planned activities.

e. Disseminate project-related information and findings through a variety of methods.

f. Implement an operational plan for one or more of the following activities:

1. Internet-based Systems: Identify best practices among state and local health agencies and/or programs that collect, manage, and disseminate health-related information by way of the Internet; develop a plan for the use of the Internet as a means for the exchange of data and information among and between state and local health departments and their partners.

2. Strategic Plan for Use of Data Standards Develop and implement a strategic plan to facilitate the use of national specifications and standards in health information systems by state and local health agencies. These specifications and standards should take advantage of existing national and international data and information standards, and work already done in the public and private sectors.

3. Model Data Sharing Agreements: Identify and evaluate current efforts by state and local health agencies to share information, develop and field test model agreements, disseminate the models to state and local health departments, and provide training on their use.

4. Technical Assistance: Develop a plan to address the technical needs of state and local health departments such areas as methods of linking or matching data, methods of managing and storing data, methods of analyzing data, methods of querying or otherwise accessing data, methods of displaying information, and methods of ensuring the integrity and security of data and the confidentiality of data about individual persons. Identify the most common requests for information that state and local health agencies receive; assess information and service needs; and provide direct technical assistance to requesting agencies.

5. National Health Information Systems Training: In conjunction with various partners develop a national plan to address the changing training needs of state and local health departments in the area of health information systems include public and private sector training courses; develop new training, as appropriate, to address emerging topics; and identify other opportunities for state and local health agency staff.

2. CDC Activities

a. Coordinate with national, state, and local health information and data agencies, as well as other relevant organizations, in developing programs which will enable state and local health departments to regularly and systematically collect, assemble, analyze, and make available information on the health of their populations and communities.

b. Provide programmatic consultation and guidance related to program planning, implementation, and evaluation; assessment of program objectives; use of indicators; and dissemination of successful strategies, experiences, and evaluation reports.

c. Plan and conduct the annual Assessment meeting to address issues and program activities related to this cooperative agreement.

d. Assist in the evaluation of program activities.

E. Application Content

Use the information in the Program Requirements, Other Requirements, and Evaluation Criteria sections to develop the application content. Your application will be evaluated on the criteria listed, so it is important to follow them in laying out your program plan.

The narrative should be no more than 25 double-spaced pages printed on one side, with one-inch margins, and unreduced font. Pages must be numbered clearly, and a complete table of contents of the application and its appendixes must be included. Begin each separate section on a new page.

Provide a concise, one page Executive Summary that clearly states the activities being addressed and describes your organization's eligibility, including: (a) its status as a national organization, (b) number and membership of affiliate offices, and (c) experience and capacity of the organization to work with state and local health departments. The summary should also include the major proposed goals, objectives, and activities for implementation of the project.

Divide the body of the application into the following sections:

1. Background and Need (not more than 2 pages)

a. The needs associated with the activities under proposed activities.

b. Your organization's background and experience in addressing the needs related to health information and data systems.

c. The need for the specific activities proposed in your plan.

2. Capacity (not more than 2 pages):

a. Describe your organization's constituents and affiliates as follows:

Type of constituency.

Number of constituents and affiliates.

Location of constituents and affiliates.

How the constituency can influence and work with health information and data systems.

b. Describe your organization's experience in supporting the activities for which you are applying, including such factors as:

Current and previous experience related to the proposed program activities.

Current and previous coordination with other national organizations and partners. Activities related to building alliances, networks, or coalitions.

c. Describe your organization's structure and how it supports health information and data systems. Attach a copy of your organizational chart.

3. Operational Plan (not more than 10 pages):

a. Goals—List goals that specifically relate to program requirements that indicate where the program will be at the end of the projected 3 year project period.

b. Objectives—List objectives that are specific, measurable, and feasible to be accomplished during the first 12-month budget period. The objectives should relate directly to the project goals and recipient activities.

c. Describe in narrative form and display on a timetable, specific activities that are related to each first-year objective. Indicate when each activity will occur as well as when preparations for activities will occur. Indicate who will be responsible for each activity.

d. List major milestones that will be accomplished during years two and three.

4. Project Management and Staffing Plan (not more than 4 pages):

a. Describe the proposed staffing for the project and provide job descriptions for existing and proposed positions.

b. Attach curriculum vitae (limited to 2 pages per person—in attachments) for each professional staff member named in the proposal.

c. Submit job descriptions (in attachments) illustrating the level of organizational responsibility for professional staff who will be assigned to the project.

d. If a state(s) has been identified where the proposed activities will occur, provide the name of this state(s) and the name(s) of the contact person who will coordinate the activity.

5. Sharing experiences (not more than 1 page):

Describe how project materials and accomplishments will be shared with others. Identify appropriate audiences for this information.

6. Collaboration (not more than 1 pages):

Describe the purposes of proposed collaboration and the agencies and organizations with which collaboration will be conducted. If other organizations will participate in proposed activities, provide the name(s) of the organization(s), and state who in your organization will coordinate the activity. For each organization listed, provide a letter from them that acknowledges their specific role and describes their capacity to fulfill it. Do not include letters of support from organizations that will not have specific roles in the project.

7. Evaluation (not more than 4 pages):

Describe a plan to evaluate the project's effectiveness in meeting its objectives and goals. Describe the type of evaluation that will be used (process, outcome, or both). Specify the evaluation question(s) to be answered, data to be obtained, the type of analyses that will be performed, to whom it will be reported, and how data will be used to improve the program. The plan should indicate major steps in the evaluation, who will be responsible.

8. Budget and Accompanying Justification:

Provide a detailed budget narrative and line-item justification of all operating expenses. The budget should be consistent with the stated objectives and planned activities of the project. Budget requests should include the cost for two people for a 2 day trip to Atlanta, Georgia for a planning meeting and a 4 day trip to Atlanta, Georgia for the annual Assessment Conference. Applicants are also requested to present an estimate (percentage) of their total request budgeted for each identified activity area and its associated activities.

F. Submission and Deadline

Submit the original and two copies of PHS-5161-1 (OMB Number 0937-0189). Forms are available at the following Internet address: www.cdc.gov/...Forms, or in the application kit.

On or before August 25, 2000, submit the application to the Grants Management Specialist identified in the “Where to Obtain Additional Information” section of this announcement. Deadline: Applications will be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks will not be acceptable as proof of timely mailing.) Late Applications: Applications which do not meet the criteria in (a) or (b) above are considered late applications, will not be considered, and will be returned to the applicant.

G. Evaluation Criteria (100 points)

Each application will be evaluated individually against the following criteria by an independent review group appointed by CDC.

1. Organizational Capability (20 Points)

The extent to which the applicant documents:

(a) An organizational mission of assisting state or local agencies in collecting, assembling, analyzing and making available health-related information.

(b) Recent experience assisting state or local agencies in collecting, assembling, analyzing and making available health-related information.

(c) Recent experience administering or coordinating health-related, public health, or community-based data or information programs in conjunction with other national associations or federal health agencies.

(d) Ability to access and influence state and local health agencies through a network of affiliates, constituents, or members, and

(e) Capacity (or planned capacity) to provide either coordination and oversight, or technical assistance and training to state and local health agencies in improving information and information systems. This capacity should include skilled and experienced staff, physical facilities, and information technology resources (e.g.,Internet access).

2. Understanding of the Problem (10 Points)

The extent to which the applicant demonstrates and documents an understanding of population-based health information systems, the unmet needs of state and local health agencies with respect to these systems, and the opportunities and barriers that exist to meet these needs.

3. Program Objectives (15 Points)

The extent to which the proposed objectives are specific, measurable, time-phased, and consistent with the purpose of the program announcement.

4. Quality of Plan (25 Points)

The strength of the applicant's plan for conducting program activities and the likelihood that the proposed plan will adequately address the purpose of the program. The plan should address each of the activities under the program area for which the applicant organization is applying and provide a timeline for conducting program activities.

5. Organizational Experience (15 Points)

The extent to which the applicant can demonstrate existing support for partnership activities and collaboration with CDC, other associations and organizations, and official health agencies.

6. Evaluation Plan (15 Points)

The extent to which the applicant presents an evaluation plan to measure the achievement of program objectives and monitor the implementation of proposed activities, or the commitment to implement a collaboratively developed evaluation plan.

7. Budget Justification (not scored)

The budget will be evaluated for the extent to which it is reasonable, clearly justified, and consistent with the intended use of cooperative agreement funds.

H. Other Requirements

1. Technical Reporting Requirements Provide CDC with original plus two copies of

a. semiannual progress reports;

b. financial status report, no more than 90 days after the end of the budget period; and

c. final financial and performance reports, no more than 90 days after the end of the project period.

Send all reports to the Grants Management Specialist identified in the “Where to Obtain Additional Information” section of this announcement.

2. The following additional requirements are applicable to this program. For a complete description of each, see Attachment I in the application kit.

AR-7 Executive Order 12372 Review

AR-10 Smoke-Free Workplace Requirements

AR-11 Healthy People 2010

AR-12 Lobbying Restrictions

I. Authority and Catalog of Federal Domestic Assistance Number

This program is authorized under Section 301(a) of the Public Health Service Act, 42 U.S.C. 241(a), as amended. The Catalog of Federal Domestic Assistance Number is 93.283.

J. Where to Obtain Additional Information

This and other CDC announcements can be found on the CDC home page Internet address—http://www.cdc.gov Click on “Funding” then “Grants and Cooperative Agreements.” To receive additional written information and to request an application kit, call 1-888-GRANTS4 (1-888 472-6874). You will be asked to leave your name and address and will be instructed to identify the announcement number of interest.

If you have questions after reviewing the contents of all the documents, business management technical assistance may be obtained from: Juanita D. Crowder, Grants Management Specialist, Grants Management Branch, Procurement and Grants Office, Centers for Disease Control and Prevention, Room 3720, 2920 Brandywine Road Atlanta, GA 30341-4146, Telephone Number: (770) 488-2734, Email address: jdd2@cdc.gov.

For program technical assistance, contact: R. Gibson Parrish, M.D., CDC Project Officer, 2877 Brandywine Road, Mailstop K74, Atlanta, Georgia 30341-3724, Telephone number: (770) 488-8357, Email address: rgp1@cdc.gov.

Dated: July 19, 2000.
Henry S. Cassell III,
Acting Director, Procurement and Grants Office, Centers for Disease Control and Prevention (CDC).

[FR Doc. 00-18700 Filed 7-24-00; 8:45 am]

BILLING CODE 4163-18-P